DEPARTMENT OF THE INTERIOR

Fish and Wildlife Service

[FWS-R4-R-2009-N124; 40136-1265-0000-S3]

Central Arkansas National Wildlife Refuge Complex

AGENCY: Fish and Wildlife Service, Interior.

ACTION: Notice of availability: draft comprehensive conservation plan and environmental assessment; request for comments.

SUMMARY: We, the Fish and Wildlife Service (Service), announce the availability of a draft comprehensive conservation plan and environmental assessment (Draft CCP/EA) for the Central Arkansas National Wildlife Refuge Complex (Complex), consisting of Bald Knob, Big Lake, Cache River, and Wapanocca National Wildlife Refuges, for public review and comment. In this Draft CCP/EA, we describe the alternative we propose to use to manage this complex for the 15 years following approval of the final CCP.

DATES: To ensure consideration, we must receive your written comments by September 28, 2009.

A meeting will be held to present the Draft CCP/EA to the public; mailings, newspaper articles, and posters will be the avenues to inform the public of the date and time for the meeting.

ADDRESSES: Send comments, questions, and requests for information to: Mr. William R. Smith, Central Arkansas National Wildlife Refuge Complex, 26320 Highway 33 South, Augusta, AR 72006. The Draft CCP/EA is available on compact disk or in hard copy. The Draft CCP/EA may also be accessed and downloaded from the Service's Internet Site: http://southeast.fws.gov/planning.

FOR FURTHER INFORMATION CONTACT: Mr. William R. Smith; telephone: 870/347-2074; e-mail: william_r_smith@fws.gov.

SUPPLEMENTARY INFORMATION:

Introduction

With this notice, we continue the CCP process for Bald Knob, Big Lake, Cache River, and Wapanocca National Wildlife Refuges. We started this process through a notice in the Federal Register on January 3, 2007 (72 FR 142).

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Bald Knob National Wildlife Refuge (Bald Knob NWR) is near the town of Bald Knob in White County, Arkansas, and was established in 1993 to protect and provide feeding and resting areas for migrating waterfowl. Bald Knob NWR, totaling 16,100 acres of forested wetlands, moist-soil impoundments, and croplands, hosts one of the largest populations of wintering pintails in the State. The refuge is a crucial staging area for pintails migrating to the coastal areas of Louisiana and eastern Texas.

Big Lake National Wildlife Refuge (Big Lake NWR) is near the town of Manila in Mississippi County, Arkansas, and was established in 1915 by Executive Order of President Woodrow Wilson, to serve as a reserve and breeding ground for native birds. Big Lake NWR encompasses 11,038 acres of lake and swamp habitats, including 2,144 acres designated as Wilderness. Big Lake NWR provides important migratory bird habitat and is designated as a “National Natural Landmark Area.” The American Bird Conservancy also has listed the refuge as a “Globally Important Bird Area.”

Cache River National Wildlife Refuge (Cache River NWR) is near the towns of Augusta and Brinkley, Arkansas, and was established in 1986 to provide critical wintering habitat for waterfowl and other migratory and resident wildlife species. Although the land acquisition boundary is approved for 185,574 acres, Cache River NWR presently encompasses 66,350 acres situated within Jackson, Monroe, Prairie, and Woodruff Counties. Cache River NWR is noted as part of the most important wintering habitat for mallards in North America.

Wapanocca National Wildlife Refuge (Wapanocca NWR) is 20 miles northwest of Memphis, Tennessee, and near the town of Turrell in Crittendon County, Arkansas. Wapanocca NWR was established in 1961 to provide a wintering area for migratory waterfowl, and presently encompasses 5,620 acres of agricultural land, grassland, bottomland hardwood forest, and flooded cypress/willow swamp. Wapanocca NWR is important as a nesting area for resident wood ducks and provides significant habitat along the Mississippi River that is heavily used by migrating and wintering waterfowl. The American Bird Conservancy has listed the refuge as a “Continentally Important Bird Area.”

Significant issues identified in the Draft CCP/EA include: (1) Management of waterfowl, other migratory birds, and other native wildlife species; (2) bottomland hardwood reforestation and management; (3) management of moist-soil impoundments and croplands; (4) water quality; (5) invasive species management; (6) land acquisition; and (7) visitor services (e.g., hunting, fishing, wildlife observation, wildlife photography, environmental education and interpretation, access, and facilities).

CCP Alternatives, Including our Proposed Alternative

We developed three alternatives for managing the refuges within the Complex and chose Alternative C as our proposed alternative. A full description is in the Draft CCP/EA. We summarize each below.

Alternative A—Maintain Current Management (No Action)

Under Alternative A, we would continue current management of each refuge within the Complex. We would continue to restore, protect, and manage bottomland hardwood forests, wetlands, cropland units, moist-soil units, open-water areas, grassland/scrub-shrub areas, and the Big Lake NWR Wilderness. Management activities would continue to focus on afforestation and reforestation, restoration of wetlands, invasive plant and nuisance animal management, cooperative farming, inventorying and monitoring, and priority public uses (e.g., hunting, fishing, wildlife observation, wildlife photography, and environmental education and interpretation). We would seek to acquire land from willing sellers within the approved acquisition boundaries.

Alternative B—Minimal Management Alternative

Under Alternative B, we would undertake minimal wildlife, habitat, and infrastructure management. Under this “let nature take its course” alternative, there would be no more active reforestation efforts; no moist-soil impoundments and croplands; and no more road, beaver dam, or invasive species management and maintenance programs. We would let natural succession proceed unchecked, and provide for development of early stage or successional forest habitat on abandoned lands, with no silvicultural treatments in existing forest stands being conducted. We would implement a custodial or passive stewardship approach to management and would monitor natural succession and wildlife populations over time. Both quality and quantity of habitats for wildlife would be expected to decline, along with wildlife use of these habitats. There would likely be reduced associated public use, because roadways and facilities would not be maintained and the quality of visitor services would diminish. There would be no change in the acreage or amount of waterfowl sanctuaries. We would seek to acquire land from willing sellers within the approved acquisition boundaries.

Alternative C—Enhanced Habitat Management and Public Use Programs (Proposed Alternative)

By implementing the proposed alternative, we would actively expand and improve habitat management and public use programs. We would intensify and enhance forest, moist-soil, scrub-shrub, grassland, and aquatic management programs in order to increase benefits for waterfowl, shorebirds, water birds, other migratory birds, and other species of native wildlife. We would expand wetlands and forest restoration projects. We would increase invasive plant and animal control projects. A full range of inventorying, monitoring, and research programs would be developed and implemented to enable adaptive management. We would continue habitat conservation and restoration projects. We would expand our land acquisition projects by working with willing sellers. We would also pursue boundary expansions. As part of a comprehensive visitor services program, we would improve environmental education and interpretation programs. Opportunities for hunting, fishing, and wildlife observation would be expanded, and law enforcement coverage would be increased for more effective protection of resources and visitors. We would recruit additional staff, acquire additional equipment, and improve facilities to enable implementation of these projects and programs.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997, Public Law 105-57.

Dated: June 25, 2009.
Cynthia K. Dohner,
Acting Regional Director.

[FR Doc. E9-20665 Filed 8-26-09; 8:45 am]

BILLING CODE 4310-55-P